FEDERAL COMMUNICATIONS COMMISSION

[FR ID: 243633]

Privacy Act of 1974; System of Records

AGENCY: Federal Communications Commission.

ACTION: Notice of a modified system of records.

SUMMARY: The Federal Communications Commission (FCC, Commission, or Agency) proposes to modify an existing system of records, FCC/MB-1, Ownership Reports for Commercial and Noncommercial Broadcast Stations, subject to the Privacy Act of 1974, as amended. This action is necessary to meet the requirements of the Privacy Act to publish in the Federal Register notice of the existence and character of records maintained by the agency. The FCC's Media Bureau (MB) uses the information contained in this system to administer the Commission's regulatory responsibilities that relate (1) to ownership of commercial broadcast stations, including AM and FM radio and television (full power, Class A, and low power); and (2) to ownership of noncommercial broadcast stations, including AM and FM radio and full-power television. The FCC Enforcement Bureau (EB) also uses the information contained in this system to review the Equal Employment Opportunity (EEO) programs of both commercial and non-commercial AM and FM radio and television stations (full power, Class A, and low power) and Satellite Digital Audio Radio Services (SDARS) licensees. And for cable operators and “Direct Broadcast Satellite” (DBS) providers, EB similarly reviews their compliance with the FCC's Equal Employment Opportunity (EEO) rules in this system, in part, via the Cable Operations and Licensing System (COALS) database.

DATES: This modified system of records will become effective on September 13, 2024. Written comments on the routine uses are due by October 15, 2024. The routine uses in this action will become effective on October 15, 2024 unless comments are received that require a contrary determination.

ADDRESSES: Send comments to Brendan McTaggart, Federal Communications Commission, 45 L Street NE, Washington, DC 20554, or privacy@fcc.gov.

FOR FURTHER INFORMATION CONTACT: Brendan McTaggart, (202) 418-1738, or privacy@fcc.gov.

SUPPLEMENTARY INFORMATION: This notice serves to update and modify FCC/MB-1 as a result of the various necessary changes and updates. The substantive changes and modifications to the previously published version of the FCC/MB-1 system of records include:

1. Renaming the SORN “MB-1, Media Ownership and Equal Employment Opportunity Forms and Reports,” and updating the Purposes, Categories of Records, Categories of Individuals, and Record Source Categories to reflect the collection of Equal Employment Opportunity (EEO) data through FCC Form 2100, Schedule 396-B, the Broadcast Equal Employment Opportunity Program Report (Form 396-B), through Form 396-C, the Multi-Channel Video Program Distributors EEO Program Annual Report (Form 396-C); and through any related attachments or supporting documentation; and adding the Enforcement Bureau to System Location and System Manager, to reflect the Bureau's role in enforcing the Commission's EEO requirements;

2. Updating the language in the Security Classification and Authority for Maintenance of the System to follow OMB guidance;

3. Otherwise modifying the language in the Categories of Individuals and Categories of Records to be consistent with the language and phrasing now used in FCC SORNs;

4. Adding one new routine use (listed by the routine use number provided in this SORN): (9) Assistance to Federal Agencies and Entities Related to Breaches, the addition of which is required by OMB M-17-12;

5. Updating and/or revising language in eight routine uses (listed by the routine use number provided in this SORN): (1) Public Access; (2) Litigation and (3) Adjudication (now two separate routine uses); (4) Law Enforcement and Investigation; (5) Congressional Inquiries; (6) Government-wide Program Management and Oversight; (7) Breach Notification, the modification of which is required by OMB M-17-12; and (9) Nonfederal Personnel;

6. Deleting one routine use: former routine use (3) Financial Obligations under the Debt Collection Acts, which is no longer applicable;

7. Updating language in the Purposes of the System to reflect changes to the Commission's media ownership rules.

The system of records is also updated to reflect various administrative changes related to the system managers and system addresses; policy and practices for storage, retention, disposal and retrieval of the information; administrative, technical, and physical safeguards; and updated notification, records access, and contesting records procedures.

SYSTEM NAME AND NUMBER:

FCC/MB-1, Media Ownership and Equal Employment Opportunity Forms and Reports

SECURITY CLASSIFICATION:

Unclassified.

SYSTEM LOCATION:

Media Bureau (MB) and Enforcement Bureau (EB), Federal Communications Commission (FCC), 45 L Street NE, Washington, DC 20554.

SYSTEM MANAGER(S):

MB and EB, FCC, 45 L Street NE, Washington, DC 20554.

AUTHORITY FOR MAINTENANCE OF THE SYSTEM:

47 U.S.C. 151, 152(a), 154(i), 257, 303(r), 307, 308, 309, 310, 554(e).

PURPOSE(S) OF THE SYSTEM:

The Commission uses the records in this system:

(1) To assess the data contained in responses to Form 323, and/or Form 323-E, which the Commission uses to evaluate licensees' or permittees' compliance with the Commission's rules applicable to owners of commercial broadcast stations, including AM and FM radio and television (full power, Class A, and low power); and noncommercial broadcast stations, including AM and FM radio and full-power television. These forms are filed: (a) To satisfy the biennial filing requirement (Biennial Ownership Report); (b) As a validation and resubmission of a previously filed Biennial Ownership Report; (c) In connection with the transfer of control or assignment of a broadcast station; (d) By a permittee within 30 days after the grant of a construction permit and on the date that the permittee files its license application; (e) As a certification of accuracy of the initial or post-consummation Ownership Report filed by the permittee in conjunction with its application for a station license; or (f) As an amendment of a previously filed Ownership Report.

(2) To undertake studies of minority and female ownership in responses to Form 323, and/or Form 323-E that include studies that support the Commission's diversity policy goals and other ownership studies to support its statutory requirement to review the media ownership goals quadrennially to determine whether they are necessary in the public interest as the result of competition.

(3) To assess the data contained in Form 396-B and annual EEO Public File Reports attached to both the Form 396-B and the Form 396-C Supplemental Investigation Sheet (SIS). The FCC uses the Form 396-B to evaluate licensees' EEO compliance under applicable FCC requirements at the time they apply for license renewal. The Form 396-C SIS is filed no less than once every five years to provide supplemental data on the EEO compliance of a cable operator or DBS provider.

(4) To otherwise utilize Form 323, Form 323-E, Form 396-B, Form 396-C and annual EEO Public File Reports for other lawful purposes, including analyzing effectiveness and efficiency of related FCC programs, informing future rule and policy-making activity, and improving staff efficiency.

CATEGORIES OF INDIVIDUALS COVERED BY THE SYSTEM:

The categories of individuals covered by this system include: (1) Licensees, permittees, and respondents, and other individuals or entities with interests therein that are required to file or have their interests reported on: (a) Form 323, “Ownership Report for Commercial Broadcast Stations” pursuant to 47 CFR 73.3615, 73.6026, and 74.797; and/or (b) Form 323-E, “Ownership Report for Noncommercial Broadcast Stations pursuant to 47 CFR 73.3615; (2) Contact individuals reported on: (a) Form 323, e.g., representatives, relating to commercial AM, FM, and television (full power, Class A, and low power) broadcast stations ; and/or (b) Form 323-E, e.g., representatives, relating to noncommercial AM, FM, and full-power television broadcast stations; (3) Individuals, pursuant to 47 CFR 73.3555, with ownership or attributable interests in broadcast stations subject to the Commission's ownership rules or otherwise required to be reported on Form 323, and/or Form 323-E; and (4) (a) Individuals filing Form 396-B pursuant to 47 CFR 73.2080 on behalf of broadcast stations and SDARS licensees as well as individuals who have filed discrimination complaints involving those licensees and are named in attachments to Form 396-B; and (b) Individuals filing Form 396-C SIS pursuant to 47 CFR 76.77(c); and (c) Individuals (including recruitment sources and referral sources) included in the annual EEO Public File Report associated with a broadcast station or SDARS licensee and who are identified in the last two annual EEO Public File Reports attached to Form 396-B or, with regards to cable operators or DBS providers, the last EEO Public File Report, which is attached to the Form 396-C SIS.

CATEGORIES OF RECORDS IN THE SYSTEM:

The categories of records in this system include: (1) Information that is required to be submitted on Form 323, and/or Form 323-E, including the ownership or other interests of the licensee/permittee/respondent, mailing address, telephone number, email address, FCC Registration Number (FRN), Restricted Use FRN (RUFRN), listing type, relationship to licensee/permittee/respondent/other interest holder, positional interest, joint interest status, Tribal Nation/entity status, marital/familial relationship, and gender, ethnicity, race, and citizenship, etc.; (2) All exhibits, organizational charts, supporting documentation, and any other materials included with the report (e.g., correspondence, letters, etc.), which are associated with processing Form 323, Form 323-E, or Form 396-B submissions; (3) identifying information in Form 396-B or its attachments, such as the names of individuals associated with discrimination complaints and identifying information included in EEO Public File Reports—an annual report summarizing various recruitment activities of the licensee—such as the names of recruitment contacts at various entities; and (4) identifying information included the EEO Public File Reports attached to the Form 396-C SIS; and (5) Any other records that are submitted in connection with or created as the result of the filing of Form 323, Form 323-E, Form 396-B, Form 396-C SIS or EEO Public File Reports.

RECORD SOURCE CATEGORIES:

The sources for the information in this system are all broadcast stations, SDARS licensees, cable operators and DBS providers and other entities that are required to file an ownership or EEO form or report, either biennially, upon license renewal or at other occasions, under 47 CFR 73.3615, 73.6026, 74.797, 73.20280, and 76.77 of the Commission's rules, including information submitted on Form 323, Form 323-E, Form 396-B, Form 396-C SIS or EEO Public File Reports, as described above.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside of the FCC as a routine use pursuant to 5 U.S.C. 552a(b)(3) as follows:

1. Public Access—Ownership and EEO Information submitted in Form 323, Form 323-E, Form 396-B, Form 396-C SIS and EEO Public File Reports in the Consolidated Database System (CDBS), the Licensing and Management System (LMS), and the Cable Operations and Licensing System (COALS), as applicable, can be viewed by the public on the Commission's website.

2. Litigation—Records may be disclosed to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the Department of Justice is for a purpose that is compatible with the purpose for which the FCC collected the records.

3. Adjudication—Records may be disclosed in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

4. Law Enforcement and Investigation—When the FCC investigates any violation or potential violation of a civil or criminal law, regulation, policy, executed consent decree, order, or any other type of compulsory obligation, and determines that a record in this system, either alone or in conjunction with other information, indicates a violation or potential violation of law, regulation, policy, consent decree, order, or other compulsory obligation, the FCC may disclose pertinent information as it deems necessary to the target of an investigation, as well as with the appropriate Federal, State, local, Tribal, international, or multinational agencies, or a component of such an agency, responsible for investigating, prosecuting, enforcing, or implementing a statute, rule, regulation, or order.

5. Congressional Inquiries—Information may be provided to a Congressional office in response to an inquiry from that Congressional office made at the written request of the individual to whom the information pertains.

6. Government-wide Program Management and Oversight—Information may be disclosed to the DOJ to obtain that department's advice regarding disclosure obligations under the Freedom of Information Act (FOIA); or to the Office of Management and Budget (OMB) to obtain that office's advice regarding obligations under the Privacy Act.

7. Breach Notification—Records may be disclosed to appropriate agencies, entities, and persons when: (a) the Commission suspects or has confirmed that there has been a breach of the system of records; (b) the Commission has determined that as a result of the suspected or confirmed breach there is a risk of harm to individuals, the Commission (including its information system, programs, and operations), the Federal Government, or national security; and; and (c) the disclosure made to such agencies, entities, and persons is reasonably necessary to assist in connection with the Commission's efforts to respond to the suspected or confirmed breach or to prevent, minimize, or remedy such harm.

8. Assistance to Federal Agencies and Entities Related to Breaches—Records may be disclosed to another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

9. Non-Federal Personnel—Information may be disclosed to non-Federal personnel, including contractors, other vendors (e.g., identity verification services), grantees, and volunteers who have been engaged to assist the FCC in the performance of a service, grant, cooperative agreement, or other activity related to this system of records and who need to have access to the records in order to perform their activity.

POLICIES AND PRACTICES FOR STORAGE OF RECORDS:

This an electronic system of records that resides on the FCC's network or on an FCC vendor's network.

POLICIES AND PRACTICES FOR RETRIEVAL OF RECORDS:

Records in this system of records can be retrieved by an authorized FCC user by any category field, e.g., first name or email address.

POLICIES AND PRACTICES FOR RETENTION AND DISPOSAL OF RECORDS:

The information in this system is limited to electronic files, records, and data, which includes: (1) The information that pertains to current filing requirements; and (2) the information that pertains to historical records, which is used for archival purposes. National Archives and Records Administration (NARA) Records Schedule N1-173-86-2, authorizes permanent retention of original documents of information reported pursuant to Sections 73.3613 and 73.3615 of the Commission's rules, including ownership reports (FCC Form 323). In the absence of a more specific NARA-approved records schedule, any information in this system that is not covered by the agency records control schedule N1-173-86-2 will also be treated as permanent.

ADMINISTRATIVE, TECHNICAL, AND PHYSICAL SAFEGUARDS:

Access to the records (i.e., the electronic records, files, and data) housed in the COALS, CDBS, and LMS databases—distinct from the public's ability to view the ownership information that is available on the FCC's website—is restricted to authorized MB and EB supervisory and staff and IT staff and contractors, who maintain the COALS, CDBS, and LMS network computer databases. Other FCC staff and contractors may be granted access to this information, only on a “need-to-know” basis. The COALS, CDBS, and LMS databases are part of the FCC's computer network databases. The records are stored within FCC or a vendor's accreditation boundaries and maintained in a database housed in the FCC's or vendor's computer network databases. The electronic files and records are protected by the FCC and third-party privacy safeguards, a comprehensive and dynamic set of IT safety and security protocols and features that are designed to meet all Federal privacy standards, including those required by the Federal Information Security Modernization Act of 2014 (FISMA), the Office of Management and Budget (OMB), and the National Institute of Standards and Technology (NIST).

RECORD ACCESS PROCEDURES:

Individuals wishing to request access to and/or amendment of records about themselves should follow the Notification Procedures below.

CONTESTING RECORD PROCEDURES:

Individuals wishing to request access to and/or amendment of records about themselves should follow the Notification Procedures below.

NOTIFICATION PROCEDURES:

Individuals wishing to determine whether this system of records contains information about themselves may do so by writing to privacy@fcc.gov. Individuals requesting access must also comply with the FCC's Privacy Act regulations regarding verification of identity to gain access to records as required under 47 CFR part 0, subpart E.

EXEMPTIONS PROMULGATED FOR THE SYSTEM:

None.

HISTORY:

81 FR 72047 (October 19, 2016)

Federal Communications Commission.
Marlene Dortch,
Secretary.

[FR Doc. 2024-20847 Filed 9-12-24; 8:45 am]

BILLING CODE 6712-01-P